DEPARTMENT OF HOMELAND SECURITY

Coast Guard

46 CFR Part 69

[Docket No. USCG-2011-0522]

RIN 1625-AB74

Tonnage Regulations Amendments

AGENCY: Coast Guard, DHS.

ACTION: Notice of public meeting.

SUMMARY: The Coast Guard announces a public meeting to take place on June 5, 2014, in Arlington, Virginia to receive comments on a notice of proposed rulemaking (NPRM) published in the Federal Register on April 8, 2014, under the title “Tonnage Regulations Amendments.” This proposed rule would amend the tonnage regulations by implementing amendments to the tonnage measurement law made by the Coast Guard Authorization Act of 2010, codifying principal technical interpretations issued by the Coast Guard, and incorporating administrative, non-substantive clarifications of and updates to the tonnage regulations.

DATES: The meeting will be held on June 5, 2014 from 10:00 a.m. to 1:00 p.m. The meeting may conclude before the allotted time if all matters for discussion have been addressed.

ADDRESSES: The meeting will be held at the U.S. Coast Guard Recruiting Command (CGRC), 4200 Wilson Boulevard, in the Alexander Hamilton Room, 6th floor, Arlington, VA 20598-7200.

FOR FURTHER INFORMATION CONTACT: If you have questions concerning the meeting or the proposed rule, please call or email Mr. Marcus Akins, Marine Safety Center, Tonnage Division (MSC-4), Coast Guard, telephone (703)-872-6787, email Marcus.J.Akins@uscg.mil. If you have questions on viewing or submitting material to the docket, call Ms. Cheryl F. Collins, Program Manager, Docket Operations, telephone 202-366-9826.

SUPPLEMENTARY INFORMATION:

Background and Purpose

On April 8, 2014, the Coast Guard published an NPRM in the Federal Register (79 FR 19420) entitled “Tonnage Regulations Amendments”. The tonnage regulations implement legislation concerning the measurement of vessels to determine their tonnage (part J of 46 U.S.C. subtitle II). Tonnage is used for a variety of purposes, including the application of vessel safety, security, and environmental protection regulations and the assessment of taxes and fees.

You may view this NPRM, and public comments submitted thus far, in the online docket by going to the Federal eRulemaking Portal at http://www.regulations.gov. Once there, search for the docket number USCG-2011-0522, and then click “Open Docket Folder.” If you do not have access to the internet, you may view the docket online by visiting the Docket Management Facility in Room W12-140 on the ground floor of the DOT West Building, 1200 New Jersey Avenue SE., Washington, DC 20590, between 9 a.m. and 5 p.m., Monday through Friday, except Federal holidays. We have an agreement with the Department of Transportation to use the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact Mr. Marcus Akins at the telephone number or email address indicated under the FOR FURTHER INFORMATION CONTACT section of this notice.

Meeting Details

Members of the public may attend this meeting up to the seating capacity of the room. We plan to record the meeting using an audio-digital recorder, and to make that audio recording available through a link in our online docket.

A valid government-issued photo identification (for example, a driver's license) will be required for entrance to the building and meeting space. To facilitate the building security process, and to request reasonable accommodation, those who plan to attend should contact the meeting coordinator, Mr. Marcus Akins, 7 days prior to the meeting by using the contact information in the FOR FURTHER INFORMATION CONTACT section of this notice. Requests made after May 29, 2014, might not be able to be accommodated.

We encourage you to participate in this meeting by commenting orally, or submitting written comments to the Coast Guard personnel attending the meeting who are identified to receive them. These comments will be posted to the online docket and will include any personal information you have provided.

Submitting Other Written Comments

You may also submit written comments to the docket before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. All comments and related material submitted after the meeting must either be submitted to the online docket on or before July 7, 2014, or reach the Docket Management Facility by that date.

Dated: May 15, 2014.
F.J. Sturm,
Acting Director of Commercial Regulations and Standards, U.S. Coast Guard.

[FR Doc. 2014-11789 Filed 5-20-14; 8:45 am]

BILLING CODE 9110-04-P